ENVIRONMENTAL PROTECTION AGENCY

[FRL-9909-81-Region 5]

Notice of Issuance of Minor Permit Modification to a Federal Operating Permit to NRG Reliability Solutions, LLC

AGENCY: Environmental Protection Agency (EPA).

ACTION: Notice.

SUMMARY: This notice announces that, on March 6, 2014, pursuant to Title V of the Clean Air Act, the Environmental Protection Agency (EPA) issued a minor permit modification of a title V operating permit to NRG Reliability Solutions. NRG Reliability Solutions owns and operates four diesel-fired generators for Treasure Island Resort and Casino on land held in trust for the Prairie Island Indian Community in Red Wing, Minnesota. The modified title V operating permit changes the location where records are kept, adds insignificant activities omitted from the original permit application, and corrects typographical errors within the permit.

DATES: The final modified title V operating permit was issued and became effective on March 6, 2014.

ADDRESSES: The final signed permit is available for public inspection online at http://yosemite.epa.gov/r5/r5ard.nsf/Tribal+Permits!OpenView, or during normal business hours at the following address: U.S. Environmental Protection Agency, Region 5, Air and Radiation Division, 77 West Jackson Boulevard, Chicago, Illinois 60604. We recommend that you call Michael Langman, Environmental Scientist, at (312) 886-6867 before visiting the Region 5 office.

FOR FURTHER INFORMATION CONTACT: Michael Langman, Environmental Scientist, Air Permits Section, Air Programs Branch (AR-18J), Environmental Protection Agency, Region 5, 77 West Jackson Boulevard, Chicago, Illinois 60604, (312) 886-6867, langman.michael@epa.gov.

SUPPLEMENTARY INFORMATION: Throughout this document whenever “we,” “us,” or “our” is used, we mean EPA.

A. What is the background information?

NRG Reliability Solutions, LLC, formerly NRG Backup Generation Services, owns and operates four diesel-fired generators for Treasure Island Resort and Casino in Red Wing, Minnesota. All four generators are located on land held in trust by the United States for the Prairie Island Indian Community. The generators are used for peak load management and backup power at the casino.

On November 26, 2012, EPA issued a title V operating permit renewal, permit number V-PI-2704900084-2012-10, to NRG Backup Generation Services. On February 25, 2013, EPA issued an administrative permit amendment to the title V operating permit renewal, permit number V-PI-2704900084-2012-11, which changed the name of the owner and operator of the four diesel-fired generators to NRG Reliability Solutions, LLC.

On December 2, 2013, EPA received a letter from NRG Reliability Solutions requesting an administrative permit amendment to its title V operating permit to change the location where records required by the permit are kept and to add insignificant emission units that were omitted from the permit's application during the permit renewal process. EPA determined that the requested changes to the permit did not qualify for an administrative permit amendment since 40 CFR 71.7(d)(1) did not authorize the use of an administrative permit amendment for some of the requested revisions. EPA directed NRG Reliability Solutions to submit an application for the requested revisions pursuant to the minor permit modification requirements at 40 CFR 71.7(e).

On January 8, 2014, EPA received a minor permit modification application requesting revisions to the permit originally requested in the December 2, 2013, letter. In addition to the revisions identified in the December 2, 2013, letter, NRG Reliability Solutions also requested the correction of a typographical error in one of the permit's conditions.

EPA processed the minor permit modification application according to the regulations governing minor permit modification requirements at 40 CFR 71.7(e). EPA determined that the requested revisions to the title V operating permit satisfied the criteria at 40 CFR 71.7(e)(1)(i). EPA also determined that the application submitted by NRG Reliability Solutions satisfied the minor permit modification application requirements at 40 CFR 71.7(e)(1)(ii). On January 22, 2014, EPA sent letters to the Prairie Island Indian Community, the state of Wisconsin, and the state of Minnesota notifying each affected entity that EPA received a complete minor permit modification application as required by 40 CFR 71.7(e)(1)(iii), 40 CFR 71.8(a), and 40 CFR 71.8(d). Pursuant to 40 CFR 71.11, EPA did not issue a public notice beyond notifying affected states or tribes or provide a public comment period for this permit action because the action is a minor permit modification.

EPA issued a final minor permit modification, permit number V-PI-2704900084-2012-12, on March 6, 2014, in accordance with 40 CFR 71.7(e)(1)(iv). A copy of the final minor permit modification was sent to NRG Reliability Solutions on March 12, 2014.

B. What is the purpose of this notice?

EPA is notifying the public of the issuance of a minor modification to a title V operating permit, permit number V-PI-2704900084-2012-12, issued to NRG Reliability Solutions, LLC, on March 6, 2014. The permit became effective on March 6, 2014.

Authority: 42 U.S.C. 7401 et seq.

Dated: April 10, 2014.
Susan Hedman,
Regional Administrator, Region 5.

[FR Doc. 2014-09459 Filed 4-24-14; 8:45 am]

BILLING CODE 6560-50-P